OFFICE OF THE UNITED STATES TRADE REPRESENTATIVE

Notice of Meeting of the Industry Sector Advisory Committee on Small and Minority Business (ISAC-14)

AGENCY: Office of the United States Trade Representative.

ACTION: Notice of meeting.

SUMMARY: The Industry Sector Advisory Committee on Small and Minority Business (ISAC-14) will hold a meeting on June 11, 2001, from 12 noon to 5 p.m. The meeting will be opened to the public from 12 noon to 5 p.m.

DATES: The meeting is scheduled for June 11, 2001, unless otherwise notified.

ADDRESSES: The meeting will be held at the Delta Centre-Ville Hotel, VIP Boardroom #522, 777 University Street, Montreal, Quebec, Canada.

FOR FURTHER INFORMATION CONTACT: Millie Sjoberg, Pam Wilbur, or Kelly Parsons (202) 482-4792, Department of Commerce, 14th Street and Constitution Avenue, NW., Washington, DC 20230 (principal contacts), or myself on (202) 395-6120.

SUPPLEMENTARY INFORMATION: During the meeting the following topics will be addressed:

• Presentation by USFCS officer in Montreal;

• Presentation by Canadian SME Task Force on SME trade policy issues in Canada;

• Discussion with Canadian Sectoral Advisory Groups on International Trade (SAGITs) on SME trade policy issues;

• Discussion on Dispute Resolution;

• Presentation on SME programs by the Royal Bank of Canada; and Committee business.

Heather K. Wingate,
Assistant United States Trade Representative for Intergovernmental Affairs and Public Liaison.

[FR Doc. 01-13133 Filed 5-23-01; 8:45 am]

BILLING CODE 3190-01-M